NATIONAL SCIENCE FOUNDATION

Sunshine Act Meetings

The National Science Board (NSB) hereby gives notice of a change in a previously scheduled meeting for the transaction of National Science Board business pursuant to the National Science Foundation Act and the Government in the Sunshine Act.

FEDERAL REGISTER CITATION OF PREVIOUS ANNOUNCEMENT: 87 FR 73050, November 28, 2022.

PREVIOUSLY ANNOUNCED TIME AND DATE OF THE MEETING: Thursday, December 1, 2022, the session beginning at 12:30 p.m.-2:40 p.m. EST.

CHANGES IN THE MEETING: There is one new agenda item. It is: Discussion and vote on establishing a commission to reexamine merit review policy and implementing policies. This item will occur after the Committee Report by the Committee on Oversight.

CONTACT PERSON FOR MORE INFORMATION: Point of contact for this meeting is: Chris Blair, cblair@nsf.gov, 703/292-7000.

Christopher Blair,
Executive Assistant to the National Science Board Office.

[FR Doc. 2022-26462 Filed 12-1-22; 11:15 am]

BILLING CODE P